DEPARTMENT OF DEFENSE

Department of the Army; Corps of Engineers

Intent to Prepare a Draft Environmental Impact Statement for the Port Canaveral Navigation Improvements Section 203 Feasibility Study Located in Brevard County, FL

Correction

In notice document 07-1278 beginning on page 12598 in the issue of Friday, March 16, 2007, make the following corrections:

1. On page 12598, in the second column, in lettered paragraph c., in the tenth line, “(2) reduce” should read “(1) reduce”.

2. On page 12599, in the first column, in lettered paragraph h., “and Wildlife Service under Section 7 of” should read “and Wildlife Service (FWS) and the National Marine Fisheries Service under Section 7 of”.

[FR Doc. C7-1278 Filed 3-20-07; 8:45 am]

BILLING CODE 1505-01-D

ENVIRONMENTAL PROTECTION AGENCY

40 CFR Part 86

[EPA-HQ-OAR-2005-0036; FRL-8278-4]

RIN 2060-AK70

Control of Hazardous Air Pollutants From Mobile Sources

Correction

In rule document E7-2667 beginning on page 8428 in the issue of Monday, February 26, 2007, make the following correction:

§ 86.1811-09 [Corrected]

On page 8564, in § 86.11-09(t)(2), in the second column, in Table S09-5, in the column heading for the first column, “Model Year of Introduction 2010” should read “Model Year of Introduction”.

[FR Doc. Z7-2667 Filed 3-20-07; 8:45 am]

BILLING CODE 1505-01-D

DEPARTMENT OF HOMELAND SECURITY

Coast Guard

46 CFR Part 401

[USCG-2006-24414]

RIN 1625-AB05

Rates for Pilotage on the Great Lakes

Correction

In rule document E7-3061 beginning on page 8115 in the issue of Friday, February 23, 2007, make the following corrections:

1. On page 8124, the tables entitled “District One” and “District Two” are corrected to read as set forth below.

District One
| Area 1 St. Lawrence River | Area 2 Lake Ontario | Total district one
Pilot Compensation | $1,368,253 | $825,760 | $2,194,013
Expense Multiplier | × .31169 | × .52779 | × .39283
Projected Increase in Operating Expense | =$426,468 | =$435,829 | =$861,881

District Two
| Area 4 Lake Erie | Area 5 southeast Shoal to Port Huron, MI | Total district two
Pilot Compensation | $825,760 | $1,596,295 | $2,422,055
Expense Multiplier | × .61678 | × .46605 | × .51731
Projected increase in Operating Expense | =$509,310 | =$743,956 | =$1,252,960

2. On page 8125, at the top of the page, the table entitled “District Three” is corrected to read as set forth below.

District Three
| Area 6 Lakes Huron and Michigan | Area 7 St. Mary's River | Area 8 Lake Superior | Total district three
Pilot Compensation | $1,651,520 | $912,168 | $1,156,064 | $3,719,752
Expense Multiplier | × .49543 | × .34956 | × .44178 | × .44290
Projected Increase in Operating Expense | =$818,205 | =$318,861 | =$510,730 | =$1,647,478

§ 401.407 [Corrected]

3. On page 8131, in § 401.407(a), the table is corrected to read as set forth below.

Service | Lake Erie (east of Southeast Shoal) | Buffalo
Six-Hour Period | $641 | $641
Docking or Undocking | 494 | 494
Any Point on the Niagara River below the Black Rock Lock | N/A | 1,261

4. On the same page, in § 401.407(b), the table is corrected to read as set forth below.

Any point on or in | Southeast Shoal | Toledo or any point on Lake Erie west of Southeast Shoal | Detroit River | Detroit pilot boat | St. Clair River
Toledo or any port on Lake Erie west of Southeast Shoal | $1,699 | $1,004 | $2,206 | $1,699 | N/A
Port Huron Change Point | ¹ 2,959 | ¹ 3,428 | 2,223 | 1,729 | $1,229
St. Clair River | ¹ 2,959 | N/A | 2,223 | 2,223 | 1,004
Detroit or Windsor or the Detroit River | 1,699 | 2,206 | 1,004 | N/A | 2,223
Detroit Pilot Boat | 1,229 | 1,699 | N/A | N/A | 2,223
¹ When pilots are not changed at the Detroit Pilot Boat.

[FR Doc. Z7-3061 Filed 3-20-07; 8:45 am]

BILLING CODE 1505-01-D